DEPARTMENT OF HOMELAND SECURITY

Transportation Security Administration

Intent To Request Renewal From OMB of One Current Public Collection of Information: Aircraft Operator Security

AGENCY: Transportation Security Administration, DHS.

ACTION: Notice.

SUMMARY: The Transportation Security Administration (TSA) invites public comment on one currently approved information collection requirement abstracted below that we will submit to the Office of Management and Budget (OMB) for renewal in compliance with the Paperwork Reduction Act.

DATES: Send your comments by January 2, 2007.

ADDRESSES: Comments may be mailed or delivered to Katrina Kletzly, Attorney-Advisor, Office of the Chief Counsel, TSA-2, Transportation Security Administration, 601 South 12th Street, Arlington, VA 22202-4220.

FOR FURTHER INFORMATION CONTACT: Katrina Kletzly at the above address, or by telephone (571) 227-1995 or facsimile (571) 227-1381.

SUPPLEMENTARY INFORMATION:

Comments Invited

In accordance with the Paperwork Reduction Act of 1995 (44 U.S.C. 3501 et seq.), an agency may not conduct or sponsor, and a person is not required to respond to, a collection of information unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

TSA is seeking to renew its OMB control number, 1652-0003, Aircraft Operator Security. TSA has implemented aircraft operator security standards at 49 CFR part 1544, which requires each aircraft operator to adopt and implement a security program. As part of these security programs, aircraft operators are required to maintain and update, as necessary, records of compliance with the security program provisions outlined in part 1544. This regulation also requires aircraft operators to make their security programs and associated records available for inspection by TSA to ensure security, safety, and regulatory compliance. Under this regulation, aircraft operators must ensure flightcrew members and employees with unescorted access authority or who perform screening functions submit to a criminal history records check (CHRC); to conduct the CHRC, these individuals must provide identifying information, including fingerprints. The collection requirements associated with aircraft operator security programs remain critical in the aftermath of the terrorist attacks of September 11, 2001. The current estimated annual reporting burden for an estimated 80 respondent air carriers is 41,600 hours.

Issued in Arlington, Virginia, on October 27, 2006.
Peter Pietra,
Director of Privacy Policy and Compliance.

[FR Doc. E6-18485 Filed 11-1-06; 8:45 am]

BILLING CODE 9110-05-P